DEPARTMENT OF COMMERCE

Foreign-Trade Zones Board

[Docket 32-2009]

Foreign-Trade Zone 74—Baltimore, MD Application for Subzone Status Tulkoff Food Products, Inc. (Dehydrated Garlic)

An application has been submitted to the Foreign-Trade Zones Board (the Board) by the City of Baltimore, grantee of FTZ 74, requesting special-purpose subzone status for the garlic products manufacturing plant of Tulkoff Foods Products, Inc. (TFP), located in Baltimore, Maryland. The application was submitted pursuant to the provisions of the Foreign-Trade Zones Act, as amended (19 U.S.C. 81a-81u), and the regulations of the Board (15 CFR part 400). It was formally filed on August 3, 2009.

The TFP facility (56 employees/6 acres/258,226 sq. ft.) is located at 2301 Chesapeake Avenue in Baltimore, Maryland. The manufacturing plant is used to produce packaged wet garlic (up to 3 million pounds annually) for industrial and commercial food service use. The manufacturing process involves foreign-origin bulk dehydrated garlic (HTSUS 0712.90, duty rate: 29.8%) which is rehydrated with water then packaged in jars, tubs, and pails. The rehydrated garlic (HTSUS 2005.91) is sold to U.S. wholesale customers and exported.

FTZ procedures could exempt TFP from customs duty payments on the foreign dehydrated garlic used in export production (about 1% of annual shipments). On domestic shipments, the company would be able to elect the duty rate that applies to finished rehydrated garlic (11.2%) for the foreign bulk dehydrated garlic. TFP would also be exempt from duty payments on any foreign garlic that becomes waste during the production process. The application indicates that the savings from FTZ procedures would help improve the facility's international competitiveness.

In accordance with the Board's regulations, Pierre Duy of the FTZ Staff is designated examiner to evaluate and analyze the facts and information presented in the application and case record and to report findings and recommendations to the Board.

Public comment is invited from interested parties. Submissions (original and 3 copies) shall be addressed to the Board's Executive Secretary at the following address: Office of the Executive Secretary, Room 2111, U.S. Department of Commerce, 1401 Constitution Avenue, NW., Washington, DC 20230-0002. The closing period for receipt of comments is October 13, 2009. Rebuttal comments in response to material submitted during the foregoing period may be submitted during the subsequent 15-day period to October 26, 2009.

A copy of the application will be available for public inspection at the Office of the Foreign-Trade Zones Board's Executive Secretary at the address listed above and in the “Reading Room” section of the Board's Web site, which is accessible via http://www.trade.gov/ftz. For further information, contact Pierre Duy at Pierre_Duy@ita.doc.gov or (202) 482-1378.

Dated: August 3, 2009.
Andrew McGilvray,
Executive Secretary.

[FR Doc. E9-19341 Filed 8-11-09; 8:45 am]

BILLING CODE 3510-DS-P